DEPARTMENT OF HEALTH AND HUMAN SERVICES

National Institutes of Health

Center for Scientific Review; Amended Notice of Meeting

Notice is hereby given of a change in the meeting of the Epidemiology and Disease Control Subcommittee 1, June 11, 2001, 9:00 AM to June 12, 2001, 4:00 PM, Bethesda Holiday Inn, 8120 Wisconsin Avenue, Bethesda, MD, 20852 which was published in the Federal Register on May 29, 2001, 66 FR 29160-29163.

The meeting time has been changed to 8:30 AM to 6:00 PM. The meeting dates and location remain the same. The meeting is closed to the public.

Dated: June 6, 2001.
LaVerne Y. Stringfield,
Director, Office of Federal Advisory Committee Policy.

[FR Doc. 01-14959 Filed 6-13-01; 8:45 am]

BILLING CODE 4140-01-M